DEPARTMENT OF ENERGY

Federal Energy Regulatory Commission

Notice of Application for Surrender of License and Soliciting Comments, Motions To Intervene, and Protests

July 29, 2005.

Take notice that the following hydroelectric application has been filed with the Commission and is available for public inspection:

a. Application Type: Surrender of License.

b. Project No.: 2304-008.

c. Date Filed: July 20, 2005.

d. Licensee: Salt River Project Agricultural Improvement and Power District (SRP).

e. Name of Project: Blue Ridge Hydro (Project).

f. Location: On East Clear Creek, a tributary of the Little Colorado River, and the East Verde River, a tributary of the Verde River, in Coconino and Gila Counties, Arizona.

g. Filed Pursuant to: Federal Power Act, 16 U.S.C. 791a-825r.

h. Licensee Contacts: Joel L. Greene, Jennings, Strouss & Salmon, P.L.C., 1500 K Street, N.W., Suite 330, Washington, DC 20005, (202) 371-9889; Frederic L. Beeson, Manager, Litigation Services, Salt River Project, Mail Station PAB 341, PO Box 52025, Phoenix, Arizona 85072-2025, (602) 236-2020.

i. FERC Contact: Regina Saizan, (202) 502-8765.

j. Deadline for filing comments and motions to intervene: August 18, 2005.

All documents (original and eight copies) should be filed with: Magalie R. Salas, Secretary, Federal Energy Regulatory Commission, 888 First Street, NE., Washington, DC 20426.

Comments, protests, and interventions may be filed electronically via the Internet in lieu of paper; see 18 CFR 385.2001(a)(1)(iii) and the instructions on the Commission's Web site under the “e-Filing” link. The Commission strongly encourages electronic filings. Please include the project number (P-2304-008) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

k. Description of Application: The United States (U.S.) and the Salt River Valley Water Users' Association (Association) jointly operate and maintain the Salt River Federal Reclamation Project (Reclamation Project). The Reclamation Project includes all dams on the Salt River and the associated hydroelectric facilities regulated by the Bureau of Reclamation (BR). The application was filed to facilitate the incorporation of the Project into the Reclamation Project pursuant to section 213 of the Arizona Water Settlements Act of 2004, Pub. L. No. 108-451 (the Settlements Act). The Settlements Act provides that the Secretary of the Interior shall accept transfer of title to the project from SRP and hold title for the benefit of the Reclamation Project; that upon transfer of the title, the Commission shall have no further licensing and regulatory authority over the project; that the Association and SRP shall be responsible for the care, operation, and maintenance of the project pursuant to the contract between the U.S. and the Association, dated September 6, 1917, as amended; and that all other applicable Federal environmental laws shall continue to apply to the Project. The Project will ultimately be operated under the oversight of the BR.

l. Locations of Application: A copy of the application is available for inspection and reproduction at the Commission in the Public Reference Room, located at 888 First Street NE., Room 2A, Washington, DC 20426, or by calling (202) 502-8371. This filing may also be viewed on the Commission's Web site at http://www.ferc.gov using the “eLibrary” link. Enter the docket number, here P-2304, in the docket number field to access the document. For assistance, call toll-free 1-866-208-3676 or e-mail FERCOnlineSupport@ferc.gov. For TTY, call (202) 502-8659. A copy is also available for inspection and reproduction at the addresses in item h. above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTEST”, OR “MOTION TO INTERVENE”, as applicable, and the Project Number of the particular application to which the filing refers. A copy of any motion to intervene must be served upon each representative of the Applicant specified in the particular application.

p. Agency Comments—Federal, state, and local agencies are invited to file comments on the described application. A copy of the application may be obtained by agencies directly from the Applicant. If any agency does not file comments within the time specified for filing comments, it will be presumed to have no comments. One copy of an agency's comments must also be sent to the Applicant's representatives.

Magalie R. Salas,
Secretary.

[FR Doc. E5-4166 Filed 8-2-05; 8:45 am]

BILLING CODE 6717-01-P